DEPARTMENT OF THE INTERIOR

Office of the Secretary

Native Hawaiian Organization Notification List

AGENCY: Office of Hawaiian Relations, Office of the Secretary, Department of the Interior.

ACTION: Creation of a Native Hawaiian Organization Notification List to be maintained by the U.S. Department of the Interior, Office of Hawaiian Relations.

SUMMARY: The Office of Hawaiian Relations (OHR), within the Office of the Secretary, U.S. Department of the Interior (DOI), has developed criteria for establishment of a Native Hawaiian Organization Notification List (Notification List). The purpose of the Notification List is to provide the DOI officials with a tool to help satisfy their statutory notification obligations under such laws as the National Environmental Policy Act (NEPA), the National Historic Preservation Act (NHPA), and the Native American Graves Protection and Repatriation Act (NAGPRA). It is also the intent of the Office of Hawaiian Relations to make available to other Federal agency officials this mechanism to assist them with their reasonable and good faith efforts to identify Native Hawaiian organizations that are to be notified or consulted with when required by statute or when desired.

DATES: Eligible organizations should submit their application for inclusion on the list. Although organizations may apply for inclusion on the list at anytime, we will begin using the list on November 26, 2007.

ADDRESSES: To apply for placement of an organization on the Notification List send certification to: Ka'i'ini K. Kaloi, Director, Office of Hawaiian Relations, 1849 C Street, NW., MS 3543, Washington, DC 20240.

SUPPLEMENTARY INFORMATION:

1. What Does the Native Hawaiian Organization Notification List Do?

a. The Native Hawaiian Organization Notification List, to be maintained and housed within OHR, is designed to assist the DOI and other agencies to locate and communicate with interested Native Hawaiian organizations when statutory, regulatory, or when otherwise desired by the agency.

b. The Native Hawaiian Organization Notification List may assist other Federal agency officials with their reasonable and good faith efforts to identify Native Hawaiian organizations that are to be notified or consulted with when required by statute or when otherwise desired by the agency.

c. The Native Hawaiian Organization Notification List is voluntary, and Native Hawaiian organizations are not required to participate in the Notification List. However, it is anticipated that Federal agencies will rely on this list.

d. The placement of an organization on the Notification List shall not be construed as recognition by the Federal Government that the organization is a governmental, tribal, or other similar type entity.

e. The placement of an organization on the Notification List is not intended to and does not confer any substantive or procedural right, benefit, or privilege enforceable at law or in equity, which is not otherwise available to the organization by law, by any party against the United States, its agencies or instrumentalities, its officers or employees, or any other person.

f. The Notification List is created as a convenience for the U.S. Government and Native Hawaiian organizations. It does not provide a basis for legal action against the U.S. Government.

2. How Does a Native Hawaiian Organization Apply To Be on the Native Hawaiian Organization Notification List?

a. An organization must certify in writing to OHR the following:

i. The organization serves and represents the interests of Native Hawaiians;

ii. The organization has as a primary and stated purpose the provision of services to Native Hawaiians;

iii. The organization has expertise in Native Hawaiian affairs; and

iv. The organization would like to be placed on the Notification List.

b. The certification must be signed and dated by the organization's governing body and include a valid U.S. mailing address where the organization wants notifications to be sent.

c. The request may also include the organization's topical and geographic areas of interest.

d. If the certification from the organization is incomplete, the organization may not be listed.

e. It is a violation of Federal law to make false, fictitious, or fraudulent statements to the Federal Government.

3. How Long Does Registration on the Notification List Last?

Placement on the list is valid for five years. Placement automatically expires at the end of five years, measured from the date the organization was placed on the Notification List or last had its membership renewed, whichever is more recent. The OHR will notify the organization at the last listed address of the need to renew their membership on the Notification List.

4. How Will DOI Manage and Provide Public Notification of the List?

a. The DOI will maintain the Native Hawaiian Organization Notification List and will periodically update it.

i. The OHR will publish on the DOI Web site the names and contact information of the listed Native Hawaiian organizations. The information contained therein will be updated periodically

ii. Copies of the Notification List and instructions outlining how to become a listed organization will also be available online or may be requested from the OHR.

5. How Will Listed Native Hawaiian Organizations Be Notified of Federal Actions?

a. Agency officials who are seeking to consult with Native Hawaiian organizations regarding a NAGPRA or NHPA action should notify those Native Hawaiian organizations on the Notification List.

b. The notification should:

i. Be sent to the address listed on the Native Hawaiian Organization Notification List;

ii. Outline the Federal action to take place that will affect Native Hawaiians;

iii. Provide a point of contact within the acting agency for the Native Hawaiian organization where inquiries may be sent.

6. What Must a Listed Native Hawaiian Organization Do in Order To Remain on the Notification List?

a. To remain on the Notification List, Native Hawaiian organizations must submit a written request at least every five years. It is the responsibility of the organization to notify the OHR of changes to its U.S. mailing address.

b. The request to remain on the Notification List must be sent to the DOI, OHR, within 30 days before the organization's listing expires.

c. The request to remain on the Notification List must include a certification, signed and dated by the organization's governing body, that includes:

i. The organization's current contact information, including a valid U.S. mailing address;

ii. A statement that the organization meets the criteria listed in 2(a)(i)-(iii); and

iii. A statement that it is the official position of the organization to remain on the Notification List.

d. If the information submitted by an organization to update its registration is incomplete, the organization may not remain listed.

e. If an organization does not provide a satisfactory update every five years, registration on the Notification List will automatically expire. Registration automatically expires at the end of two years measured from the date the organization was placed on the Notification List or the date the organization last submitted a written request to remain on the Notification List, whichever is more recent.

7. How Does an Organization Voluntarily Remove Its Name From the Notification List?

a. If an organization wants to be removed from the Notification List prior to the automatic expiration date, the organization must send a signed and dated written statement from the organization's governing body affirmatively requesting removal from the Notification List.

b. After receipt of the removal request, the OHR will remove the organization during the periodic update of the Notification List.

Dated: September 5, 2007.
Ka'i'ini Kaloi,
Director, Office of Hawaiian Relations.

[FR Doc. E7-19003 Filed 9-25-07; 8:45 am]

BILLING CODE 4310-02-P